DEPARTMENT OF THE INTERIOR

National Park Service

Plan of Operations for Cable-Only Delilah 3-D Seismic Survey, Big Thicket National Preserve, Texas

AGENCY: National Park Service, Department of the Interior.

ACTION: Notice of Availability of a Plan of Operations for Cable-Only Delilah 3-D Seismic Survey at Big Thicket National Preserve.

SUMMARY: Notice is hereby given in accordance with 36 CFR 9.52(b), of a Plan of Operations submitted by Cimarex Energy, Co., for a cable-only 3-D seismic survey, Hardin County, Texas.

DATES: The above document is available for pubic review and comment through February 9, 2009.

ADDRESSES: The Plan of Operations is available for public review and comment in the Office of the Superintendent, Todd Brindle, Big Thicket National Preserve, 6044 FM 420, Kountze, Texas 77625. The document is also available at the Planning, Environment and Public Comment (PEPC) Web site at http://parkplanning.nps gov/bith/.

FOR FURTHER INFORMATION CONTACT: Mr. Haigler “Dusty” Pate, Natural Resource Program Manager, Big Thicket National Preserve, 6044 FM 420, Kountze, Texas 77625, Telephone: 409-951-6822, e-mail at HaiglerPate@nps.gov.

SUPPLEMENTARY INFORMATION: If you wish to comment on the Plan of Operations, you may mail comments to the name and address above or post comments online at http://parkplanning.nps.gov/bith/. This Plan of Operations will be on public review for 30 days. Before including your address, phone number, e-mail address, or other personal identifying information in your comment, you should be aware that your entire comment—including your personal identifying information—may be made publicly available at any time. While you can ask us in your comment to withhold your personal identifying information from public review, we cannot guarantee that we will be able to do so.

Dated: December 15, 2008.
Todd W. Brindle,
Superintendent, Big Thicket National Preserve.

[FR Doc. E9-25 Filed 1-7-09; 8:45 am]

BILLING CODE 4312-CB-P